DEPARTMENT OF COMMERCE

Foreign-Trade Zones Board

[B-13-2015]

Authorization of Production Activity, Foreign-Trade Zone 144, Mercedes Benz USA, LLC (Accessorizing Passenger Motor Vehicles), Brunswick, Georgia

On February 18, 2015, the Brunswick and Glynn County Development Authority, grantee of FTZ 144, submitted a notification of proposed production activity to the Foreign-Trade Zones (FTZ) Board on behalf of Mercedes Benz USA, LLC, within FTZ 144, in Brunswick, Georgia.

The notification was processed in accordance with the regulations of the FTZ Board (15 CFR part 400), including notice in the Federal Register inviting public comment (80 FR 11156, 3-2-2015). The FTZ Board has determined that no further review of the activity is warranted at this time. The production activity described in the notification is authorized, subject to the FTZ Act and the FTZ Board's regulations, including Section 400.14.

Dated: June 18, 2015.
Elizabeth Whiteman,
Acting Executive Secretary.

[FR Doc. 2015-15631 Filed 6-24-15; 8:45 am]

BILLING CODE 3510-DS-P